FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202) 523-5793 or tradeanalysis@fmc.gov.

Agreement No.: 201207-001.

Title: Terminal 6 Lease Agreement Between the Port of Portland and ICTSI Oregon, Inc.

Parties: Port of Portland and ICTSI Oregon, Inc.

Filing Party: Paul D. Coleman, Esq.; Hoppel, Mayer & Coleman; 1050 Connecticut Avenue, NW., 10th Floor; Washington, DC 20036.

Synopsis: The amendment changes the commencement date of the agreement to February 12, 2011, updates terminal contracts, and updates the list of terminal assets to be transferred to the Lessee under the agreement.

By Order of the Federal Maritime Commission.
Dated: August 20, 2010.
Karen V. Gregory,
Secretary.

[FR Doc. 2010-21156 Filed 8-24-10; 8:45 am]

BILLING CODE 6730-01-P